DEPARTMENT OF TRANSPORTATION

Federal Aviation Administration

Notice of Opportunity for Public Comment on a Proposed Release of Airport Property for Non-Aeronautical Use at Pocahontas Municipal Airport, Pocahontas, AR

AGENCY: Federal Aviation Administration (FAA), DOT.

ACTION: Notice.

SUMMARY: The FAA is considering a request from Pocahontas Municipal Airport to release approximately 3.257 acres of airport property located on Patrick Drive on the eastern portion of the Airport property as shown on the approved Airport layout Plan (ALP).

DATES: Comments must be received on or before March 21, 2022.

ADDRESSES: Send comments on this document to Mr. Glenn Boles, Federal Aviation Administration, Arkansas/Oklahoma Airports District Office Manager, 10101 Hillwood Parkway, Fort Worth, TX 76177.

FOR FURTHER INFORMATION CONTACT: Mr. Danny Ellis, Chairman, Pocahontas Municipal Airport Commission, P.O. Box 896, Pocahontas AR 72455, telephone 870-248-1141; or Mr. Glenn Boles, Federal Aviation Administration, Arkansas/Oklahoma Airports District Office Manager, 10101 Hillwood Parkway, Fort Worth, TX 76177, telephone (817) 222-5630. Documents reflecting this FAA action may be reviewed at the above locations.

SUPPLEMENTARY INFORMATION: The proposal consists of 3.257 acres of airport property (Tract 2) located on the Southeast quadrant of Section 34, Township 19 North Range 1 East, Randolph County, Arkansas which was part of 368.36 acres of land that was conveyed to the City of Pocahontas via a Quitclaim Deed dated April 17, 1947, by the United States of America acting by and through the War Assets Administrator under the provisions of the Surplus Property Act of 1944. This portion of land is outside the forecasted need for aviation development and is not needed for indirect or direct aeronautical use. A release for the adjoining property was obtained through a deed of release dated February 16, 1966, the Airport now wishes to sell the land to the adjoining property owner. Income from the conversion of this parcel will benefit the aviation community by reinvestment in the airport. Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with section 47107(h) of Title 49, United States Code, this notice is required to be published in the Federal Register 30 days before modifying the land-use assurance that requires the property to be used for an aeronautical purpose.

Issued in Fort Worth, TX, on February 14, 2022.
Ignacio Flores,
Director, Airports Division, FAA, Southwest Region.

[FR Doc. 2022-03553 Filed 2-17-22; 8:45 am]

BILLING CODE 4910-13-P